ENVIRONMENTAL PROTECTION AGENCY

[OPP-2003-0024; FRL-7308-3]

FIFRA Scientific Advisory Panel; Notice of Public Meeting

AGENCY: Environmental Protection Agency (EPA).

ACTION: Notice.

SUMMARY: The June 3-5, 2003, Federal Insecticide, Fungicide, and Rodenticide Act Scientific Advisory Panel (FIFRA SAP) face-to-face meeting to review the effects of atrazine on amphibians has been rescheduled. Due to scheduling conflicts, the May 21st premeeting teleconference has been canceled. For further information, please notify the Designated Federal Official (DFO) listed under FOR FURTHER INFORMATION CONTACT or see the Federal Register of February 24, 2003 (68 FR 8593) (FRL-7291-9).

DATES: The new meeting date is June 17-20, 2003.

ADDRESSES: The meeting will be held at the Crowne Plaza Hotel, Washington - National Airport, 1489 Jefferson Davis Highway, Arlington, VA. The telephone number for the hotel is (703) 310-8980.

FOR FURTHER INFORMATION CONTACT: Paul Lewis, DFO, Office of Science Coordination and Policy (7202M), Environmental Protection Agency, 1200 Pennsylvania Ave., NW., Washington, DC 20460; telephone number: (202) 564-8450; fax number: (202) 564-8382; e-mail addresses: lewis.paul@epa.gov.

List of Subjects

Environmental protection, Pesticides and pests.

Dated: April 30, 2003.
Joseph J. Merenda,
Director, Office of Science Coordination and Policy.

[FR Doc. 03-11479 Filed 5-7-03; 8:45 am]

BILLING CODE 6560-50-S